DEPARTMENT OF THE INTERIOR

Fish and Wildlife Service

Receipt of Applications for Permit

AGENCY: Fish and Wildlife Service, Interior.

ACTION: Notice of Receipt of Applications for Permit.

SUMMARY: The public is invited to comment on the following applications to conduct certain activities with endangered species and/or marine mammals.

DATES: Written data, comments or requests must be received by September 22, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

Applicant: Miami Metrozoo, Miami, FL, PRT-069826.

The applicant requests a permit to export one male captive-born Baird's tapir (Tapirus bairdii) to the Parque Ecoarqueologico Xcaret, Mexico, for the purpose of enhancement of the survival of the species through captive propagation and conservation education.

Applicant: Yale University, New Haven, CT, PRT-072747.

The applicant requests a permit to import biological samples from sifaka (Propithecus verreauxi verreauxi) collected in the wild in Madagascar, for scientific research. This notification covers activities to be conducted by the applicant over a five-year period.

Applicant: Texas Memorial Museum, Austin, TX, PRT-072019.

The applicant requests a permit to import biological samples from Coahuilan box turtles (Terrapene coahuila) collected in the wild in Mexico, for scientific research. This notification covers activities to be conducted by the applicant over a five-year period.

Applicant: Susan C. Gardner, c/o U.S. Environmental Protection Agency, Cincinnati, OH, PRT-073075.

The applicant requests a permit to import samples and non-viable eggs obtained from green sea turtle (Chelonia mydas), olive ridley sea turtle (Lepidochelys olivacea), hawksbill sea turtle (Eretmochelys imbricata), and leather back sea turtle (Dermochelys coriacea), in Mexico, for the purpose of enhancement of the species through scientific research. This notification covers activities to be conducted by the applicant over a five year period.

Applicant: Dr. Lisa K.Yon, University of California, Davis, CA, PRT-075293.

The applicant requests a permit to import serum, urine, and fecal samples obtained from 6 bull Asian elephants (Elephas maximus) captive-held at the Ayutthaya Elephant Palace and Royal Kraal, Thailand, for the purpose of scientific research. This notification covers activities to be conducted by the applicant over a five-year period.

Applicant: Florida Museum of Natural History, Gainesville, FL, PRT-677336.

The applicant requests renewal of their permit to import export and re-export non-living museum specimens of endangered and threatened species of plants and animals previously accessioned into the applicant's collection for scientific research. This notification covers activities to be conducted by the applicant over a five-year period.

Applicant: Adam M. Vinatieri, North Attleboro, MA, PRT-075567.

The applicant request a permit to import the sport hunted trophy of one male bontebok (Damaliscus pygargus dorcas) culled from a captive herd maintained under the management program of the Republic of South Africa, for the purpose of enhancement of the survival of the species.

Marine Mammals

The public is invited to comment on the following applications for a permit to conduct certain activities with endangered marine mammals and/or marine mammals. The application was submitted to satisfy requirements of the Marine Mammal Protection Act of 1972, as amended (16 U.S.C. 1361 et seq.), and the regulations governing marine mammals (50 CFR part 18). Written data, comments, or requests for copies of the complete application or requests for a public hearing on this application should be submitted to the Director (address above). Anyone requesting a hearing should give specific reasons why a hearing would be appropriate. The holding of such a hearing is at the discretion of the Director.

Applicant: U.S. Geological Survey, Western Ecological Research Center, San Simeon, CA, PRT-672624.

The applicant request a permit to increase the number of animals out of 500 takes for drugging, vestigial tooth extraction and blood taking; for surgical implant of radio transmitters; and for TDR implants for the purpose of scientific research. This notification covers activities to be conducted by the applicant until October 5, 2007.

Concurrent with the publication of this notice in the Federal Register, the Division of Management Authority is forwarding copies of the above applications to the Marine Mammal Commission and the Committee of Scientific Advisors for their review.

Dated: August 8, 2003.
Monica Farris,
Senior Permit Biologist, Branch of Permits, Division of Management Authority.

[FR Doc. 03-21488 Filed 8-21-03; 8:45 am]

BILLING CODE 4310-55-P